DEPARTMENT OF THE INTERIOR

Fish and Wildlife Service

Sonoran Desert Conservation Plan (SDCP) for Pima County, Arizona

AGENCY: U.S. Fish and Wildlife Service, Department of the Interior.

ACTION: Notice of intent to prepare an Environmental Impact Statement (EIS) and notice of public scoping meetings related to the SDCP.

SUMMARY: Pursuant to the National Environmental Policy Act (NEPA), this notice advises the public that the U.S. Fish and Wildlife Service (Service) intends to prepare an EIS to evaluate the impacts of and alternatives for the possible issuing an incidental take permit, pursuant to section 10(a)(1)(B) of the Endangered Species Act of 1973, as amended (Act), to Pima County. Pima County proposes to be an applicant for an incidental take permit, through development and implementation of the Sonoran Desert Conservation Plan (SDCP), which will serve as a habitat conservation plan, as required by the Act for issuance of an incidental take permit. The SDCP will provide the measures to minimize and mitigate the effects of the proposed taking on listed and sensitive species and the habitats upon which they depend.

DATES AND ADDRESSES: Written comments on conservation alternatives and issues to be addressed in the EIS are requested by October 23, 2000, and should be sent to Mr. David Harlow, Field Supervisor, U.S. Fish and Wildlife Service, 2321 West Royal Palm Road, Suite 103, Phoenix, AZ, 85021 at 602/640-2720. Oral and written comments will also be accepted at the public scoping meetings to be held at the following locations:

October 4, 2000, 3-5 PM, Arizona-Sonora Desert Museum, Gallery, 2021 N. Kinney Road, Tucson, AZ 85743.

October 4, 2000, 6-8 PM, Arizona-Sonora Desert Museum, Gallery, 2021 N. Kinney Road, Tucson, AZ 85743.

For the information of the general public, names and addresses of anyone who comments may and can be disclosed under the Freedom of Information Act.

FOR FURTHER INFORMATION CONTACT: On the EIS, Contact: Ms. Sherry Barrett, Assistant Field Supervisor, Tucson Suboffice, U.S. Fish and Wildlife Service, 300 West Congress, Room 6J, Tucson, AZ, 85701, at 520/670-4617, or Mr. David Harlow, Field Supervisor, Arizona State Office, U.S. Fish and Wildlife Service, 2321 West Royal Palm Road, Suite 103, Phoenix, AZ, 85021 at 602/640-2720.

For Further Information on the SDCP, Contact: Mr. Paul Fromer, RECON, 1927 Fifth Avenue, Suite 200, San Diego, California 92101-2358 at 619/308-9333. Information on the purpose, membership, meeting schedules, and documents associated with the SDCP may be obtained on the Internet at ­ http://www.co.pima.az.us/cmo/sdcp/index.html.

SUPPLEMENTARY INFORMATION: This notice advises the public that the Service intends to gather information necessary to determine impacts and formulate alternatives for an EIS related to the potential issuance of an incidental take permit to Pima County, Arizona, and the development and implementation of the SDCP, which will provide measures to minimize and mitigate the effects of the incidental take of federally listed species.

Background

Pima County, Arizona, is home to over 800,000 residents, and the population is expected to reach 1.2 million by the year 2020. The Pima County Board of Supervisors is responsible for the protection of those lands in unincorporated Pima County that are of environmental, cultural, or historic importance. Given Pima County's rapid growth rate, Pima County has recognized the need to balance economic, environmental, and human interests by implementing a regional ecosystem-based multi-species conservation program.

Section 9 of the Act prohibits the “taking” of threatened and endangered species. The Service may, however, under limited circumstances, issue permits to take federally listed and candidate species, incidental to, and not the purpose of, otherwise lawful activities. Regulations governing permits for endangered species are at 50 CFR 17.22. The term “take” under the Act means to harass, harm, pursue, hunt, shoot, wound, kill, trap, capture, or collect, or attempt to engage in any such conduct. The proposed permit would allow approved incidental take outside of proposed preserve lands within the proposed permit boundaries.

Section 10(a)(1)(B) of the Act and regulations at 50 CFR 17.32, contain provisions for issuing incidental take permits to non-federal entities for the take of endangered and threatened species, provided the following criteria are met:

1. The taking will be incidental;

2. The applicant will, to the maximum extent practicable, minimize and mitigate the impacts of such taking;

3. The applicant will ensure that adequate funding for the Plan will be provided;

4. The taking will not appreciably reduce the likelihood of the survival and recovery of the species in the wild; and

5. Any other measures that the Service may require as being necessary or appropriate for the purposes of the Plan are met.

The proposed action is the issuance of an incidental take permit for listed and sensitive species in Pima County, pursuant to section 10(a)(1)(B) of the Endangered Species Act of 1973, as amended. Pima County will develop and implement the SDCP, which will serve as a habitat conservation plan, as required by section 10(a)(1)(B) of the Endangered Species Act. The SDCP will provide measures to minimize and mitigate the effects of the taking on listed and sensitive species and their habitats. The biological goal of the SDCP is to ensure the long-term survival of the full spectrum of plants and animals that are indigenous to Pima County through maintaining or improving the habitat conditions and ecosystem functions necessary for their survival.

Activities proposed for coverage under the incidental take permit include lawful activities that would occur outside the proposed preserve, and include, but are not limited to, maintenance of county operations, implementation of capital improvement projects, and issuance of land use related permits, including those for development.

Pima County is expected to apply for an incidental take permit for the following federally listed species (proposed covered species): the lesser long-nosed bat (Leptonycteris curasoae yerbabuenae), southwestern willow flycatcher (Empidonax traillii extimus), cactus ferruginous pygmy owl (Glaucidium brasilianum cactorum), desert pupfish (Cyprinodon macularius),

Pima pineapple cactus (Coryphantha scheeri var. robustispina), Nichol's Turk's head cactus (Echinocactus horizonthalonius var. nicholli), and Huachuaca water umbel (Lilaeopsis schaffneriana recurva). In addition, Pima County will seek to address and cover the Chiricahua leopard frog (Rana chiricahuensis), a species proposed for listing, and the Gila chub (Gila intermedia) and the Acuna cactus (Echinomastus erectocentrus var. acunensis), both of which are candidates for listing. Pima County is also seeking to address and cover at least 50 other rare and/or sensitive species that occur in the County. Unlisted species that are addressed as if they were listed, and that are found to be adequately conserved by the SDCP, will be automatically permitted for take should they be listed as federally threatened or endangered species at some time in the future. Numerous other listed and sensitive species for which Pima County is not seeking permit coverage will also benefit from the conservation measures provided in the SDCP.

The purpose of and need for the EIS and proposed SDCP are:(1) to ensure the long-term survival of the full spectrum of plants and animals that are indigenous to Pima County, through maintaining or improving the habitat conditions and ecosystems necessary for their survival; and, (2) to provide the framework for a combination of actions to protect and enhance the natural environment through comprehensive, long-range planning. This will ensure that the County's natural and urban environments not only can coexist, but also can develop an interdependent relationship with one another, thus guiding already approved public bond investments and conservation and preservation actions, defining Federal program and funding priorities, and establishing a regional preference for the expenditure of State funds to preserve and protect State Trust lands threatened by urbanization. The Sonoran Desert Conservation Plan contains the following six elements: (1) Ranch conservation, (2) historic and cultural preservation, (3) riparian restoration, (4) mountain parks, (5) habitat, biological and ecological corridor conservation, and (6) critical and sensitive habitat preservation.

In October of 1998 a draft Sonoran Desert Conservation Concept Plan was proposed by Pima County. During a three-month comment period, nearly 200 written responses were received. The SDCP was adopted in concept by Pima County in March of 1999 to frame future regional conservation planning. An 84 member Steering Committee and numerous technical teams were formed.

It was also agreed to pursue an ecosystem-based approach to developing the SDCP for interim and long-term compliance with applicable endangered species and environmental laws and to implement conservation and protection measures for species and habitats covered in the SDCP.

It is anticipated that Pima County will request permit coverage for a period of 30-50 years. Implementation of the SDCP will result in the establishment of a preserve system that will provide for the conservation of covered species and their habitats in perpetuity. Research and monitoring, in combination with adaptive management, will be used to facilitate accomplishment of these goals.

The proposed action and alternatives to be analyzed in the EIS will be assessed against a No Action/No Project alternative, which assumes that some or all of the current and future projects proposed in Pima County would be implemented individually, one at a time, and be in compliance with the ESA. The No Action/No Project alternative implies that the impacts from these potential projects on sensitive species and habitats would be evaluated and mitigated on a project-by-project basis, as is currently the case. Individual ESA Section 10(a) permits would be required for any activities involving take of federally listed species due to non-federal projects/actions. Without a coordinated, comprehensive, ecosystem-based conservation approach for the region, listed species may not be adequately addressed by individual project-specific mitigation requirements, unlisted candidate and sensitive species would not receive proactive actions intended to benefit them and prevent their listing, and project-specific mitigation would be less cost effective and piecemeal and would not help Federal and non-federal agencies work toward recovery of listed species.

Urban land uses, including residential, commercial, and industrial development

Transportation

Water resources, including hydrology and water quality

Agriculture

Air resources

Cultural and historical resources

Recreation

Ranching practices and livestock grazing

Mineral resources

Utility rights-of-way

Fire management

Social and economic resources

Environmental justice

The Service will conduct an environmental review that analyzes the proposed action, as well as a range of reasonable alternatives and the associated impacts of each. The EIS will be the basis for the Service's evaluation of impacts to the species and to the environment, and the range of alternatives to be addressed. The EIS is expected to provide biological descriptions of species and habitats and socioeconomic effects of the proposed action to be affected by the SDCP.

Comments and suggestions are invited from all interested parties to ensure that a range of issues and alternatives related to the proposed action are identified. The review of this project will be conducted according to the requirements of the National Environmental Policy Act of 1969, as amended (42 U.S.C. 4321 et seq.), National Environmental Policy Act Regulations (40 CFR parts 1500-1508), and other appropriate Federal laws, regulations, policies and guidance.

Related Project Documentation—It is anticipated that the EIS process will make full use (including incorporation by reference, as appropriate, pursuant to NEPA) of documents prepared by Pima County and other entities regarding the environmental and socioeconomic issues in the project area, copies of which will be available for public inspection at the Pima County Administrator's Office, 130 West Congress, 10th floor, Tucson AZ 85701.

After the environmental review is completed, the Service will publish a notice of availability and a request for comment on the draft EIS and Pima County's permit application, which will include the SDCP.

The draft EIS is expected to be completed by December, 2002.

Dated: August 31, 2000.
Domenick R. Ciccone,
Acting Regional Director, Southwest Region, Albuquerque, New Mexico.

[FR Doc. 00-22903 Filed 9-6-00; 8:45 am]

BILLING CODE 4310-94-P